NATIONAL FOUNDATION ON THE ARTS AND THE HUMANITIES

National Endowment for the Humanities

Federal Council on the Arts and the Humanities; Arts and Artifacts Indemnity Panel Advisory Committee

AGENCY: National Endowment for the Humanities, National Foundation On the Arts and the Humanities.

ACTION: Notice of Charter Renewal for Arts and Artifacts Indemnity Panel Advisory Committee.

SUMMARY: Pursuant to section 9(a)(2) of the Federal Advisory Committee Act (5 U.S.C. App.) and its implementing regulations, 41 CFR 102-3.65, the Federal Council on the Arts and the Humanities (the Council) gives notice that the Charter for the Arts and Artifacts Indemnity Panel advisory committee was renewed for an additional two-year period on November 25, 2015. The Council determined that renewing the advisory committee is in the public interest in connection with the duties imposed on the Council by the Arts and Artifacts Indemnity Act, 20 U.S.C. 971 et seq., as amended.

FOR FURTHER INFORMATION CONTACT: Elizabeth Voyatzis, Committee Management Officer, 400 Seventh Street SW., Washington, DC 20506. Telephone: (202) 606-8322, facsimile (202) 606-8600, or email at gencounsel@neh.gov. Hearing-impaired individuals are advised that information on this matter may be obtained by contacting the National Endowment for the Humanities' TDD terminal at (202) 606-8282.

Dated: December 1, 2015.
Elizabeth Voyatzis,
Committee Management Officer.

[FR Doc. 2015-30728 Filed 12-4-15; 8:45 am]

BILLING CODE 7536-01-P